NUCLEAR REGULATORY COMMISSION

Membership on the Executive Resources Board

AGENCY: Nuclear Regulatory Commission.

ACTION: Appointment to the Executive Resources Board for the Senior Executive Service.

SUMMARY: The U.S. Nuclear Regulatory Commission (NRC) has announced the following appointments to the NRC Executive Resources Board. The NRC Executive Resources Board is responsible for providing institutional continuity in executive personnel management by overseeing NRC's Senior Executive Service and Senior Level System merit staffing, executive succession planning, and position management activities.

Appointees

William D. Travers, Executive Director for Operations, Chair

Karen D. Cyr, General Counsel

Stuart Reiter, Acting Chief Information Officer

Jesse L. Funches, Chief Financial Officer

Annette Vietti-Cook, Secretary of the Commission

Frank J. Miraglia, Deputy Executive Director for Reactor Programs

Carl J. Paperiello, Deputy Executive Director for Materials, Research and State Programs

Patricia G. Norry, Deputy Executive Director for Management Services

Samuel J. Collins, Director, Office of Nuclear Reactor Regulation

William F. Kane, Director, Office of Nuclear Material Safety and Safeguards

Ashok C. Thadani, Director, Office of Nuclear Regulatory Research

Michael L. Springer, Director, Office of Administration

Paul E. Bird, Director, Office of Human Resources

Irene P. Little, Director, Office of Small Business and Civil Rights

Hubert J. Miller, Regional Administrator, Region I

Luis A. Reyes, Regional Administrator, Region II

James E. Dyer, Regional Administrator, Region III

Ellis W. Merschoff, Regional Administrator, Region IV

EFFECTIVE DATE: May 18, 2000.

FOR FURTHER INFORMATION CONTACT: Carolyn J. Swanson, Secretary, Executive Resources Board, U.S. Nuclear Regulatory Commission, Washington, DC 20555, (301) 415-7530.

Dated at Rockville, Maryland this 18th day of May 2000.
For the U.S. Nuclear Regulatory Commission.
Paul E. Bird,
Director, Office of Human Resources.

[FR Doc. 00-13453 Filed 5-26-00; 8:45 am]

BILLING CODE 7590-01-P